DEPARTMENT OF ENERGY

Federal Energy Regulatory Commission

Combined Notice of Filings

Take notice that the Commission has received the following Natural Gas Pipeline Rate and Refund Report filings:

Filings Instituting Proceedings

Docket Number: PR17-36-000.

Applicants: Columbia Gas of Ohio, Inc.

Description: Tariff filing per 284.123(b),(e)/: COH SOC effective 3-1-2017; Filing Type: 980.

Filed Date: 3/17/17.

Accession Number: 20170317-5036.

Comments/Protests Due: 5 p.m. ET 4/7/17.

Docket Numbers: RP17-547-000.

Applicants: Transcontinental Gas Pipe Line Company.

Description: Transcontinental Gas Pipe Line Company, LLC submits tariff filing per 154.204: Negotiated Rates—Sundance—Duke Energy Progress to be effective 5/1/2017.

Filed Date: 03/22/2017.

Accession Number: 20170322-5049.

Comment Date: 5:00 p.m. Eastern Time on Monday, April 03, 2017.

Docket Numbers: RP17-548-000.

Applicants: El Paso Natural Gas Company, L.L.C.

Description: El Paso Natural Gas Company, L.L.C. submits tariff filing per 154.601: Negotiated Rate Agreement Update (Pioneer Apr-Jun 2017) to be effective 4/1/2017.

Filed Date: 03/22/2017.

Accession Number: 20170322-5053.

Comment Date: 5:00 p.m. Eastern Time on Monday, April 03, 2017.

Docket Numbers: RP17-549-000.

Applicants: Trailblazer Pipeline Company LLC.

Description: Trailblazer Pipeline Company LLC submits tariff filing per 154.204: Fuel Tracker—2017 to be effective 5/1/2017.

Filed Date: 03/22/2017.

Accession Number: 20170322-5203.

Comment Date: 5:00 p.m. Eastern Time on Monday, April 03, 2017.

Docket Numbers: RP16-1173-002.

Applicants: First ECA Midstream LLC.

Description: First ECA Midstream LLC submits tariff filing per 154.203: Compliance to 104 to be effective 3/23/2017.

Filed Date: 03/24/2017.

Accession Number: 20170324-5303.

Comment Date: 5:00 p.m. Eastern Time on Wednesday, April 05, 2017.

Docket Numbers: RP17-550-000.

Applicants: Enable Gas Transmission, LLC.

Description: Annual Revenue Crediting Filing of Enable Gas Transmission, LLC.

Filed Date: 03/24/2017.

Accession Number: 20170324-5169.

Comment Date: 5:00 p.m. Eastern Time on Wednesday, April 05, 2017.

Docket Numbers: RP17-551-000.

Applicants: Rockies Express Pipeline LLC.

Description: Rockies Express Pipeline LLC submits tariff filing per 154.204: Neg Rate 2017-03-23 Encana to be effective 3/23/2017.

Filed Date: 03/24/2017.

Accession Number: 20170324-5294.

Comment Date: 5:00 p.m. Eastern Time on Wednesday, April 05, 2017.

Docket Numbers: RP17-552-000.

Applicants: Tallgrass Interstate Gas Transmission, L.

Description: Tallgrass Interstate Gas Transmission, LLC submits tariff filing per 154.204: Update Fuel for 6th Revised Tariff to be effective 4/1/2017.

Filed Date: 03/24/2017.

Accession Number: 20170324-5315.

Comment Date: 5:00 p.m. Eastern Time on Wednesday, April 05, 2017.

Docket Numbers: RP17-553-000.

Applicants: Transcontinental Gas Pipe Line Company.

Description: Transcontinental Gas Pipe Line Company, LLC submits tariff filing per 154.204: GT&C Section 46—Failure of Electronic Equipment to be effective 4/23/2017.

Filed Date: 03/24/2017.

Accession Number: 20170324-5319.

Comment Date: 5:00 p.m. Eastern Time on Wednesday, April 05, 2017.

Docket Numbers: RP17-554-000.

Applicants: KO Transmission Company.

Description: KO Transmission Company submits tariff filing per 154.204: Motion to Place Interim Rates into Effect April 1 to be effective 4/1/2017.

Filed Date: 03/24/2017.

Accession Number: 20170324-5320.

Comment Date: 5:00 p.m. Eastern Time on Wednesday, April 05, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 27, 2017.
Kimberly D. Bose,
Secretary.

[FR Doc. 2017-06611 Filed 4-3-17; 8:45 am]

BILLING CODE 6717-01-P